DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), will meet on March 10, 2004, in the Oak and Firs Conference rooms, at the Embassy Suites Hotel, located near the Portland Airport, at 7900 NE 82nd Avenue, Portland, Oregon 97220 (telephone 503-460-3000). The meeting will begin at 10 a.m. and adjourn at approximately 4:30 p.m. The purpose of the meeting in general is to continue committee discussions related to NWFP implementation. Meeting agenda items include, but are not limited to, a report from the Regional Interagency Executive Committee on potential NWFP implementation improvements, presentation of the new NWFP display map, new requirements for reporting Federal Advisory Committee Act recommendations, and progress reports for related activities of interest. The meeting is open to the public and fully accessible for people with disabilities. A 15-minute time slot is reserved for public comments at 10:15 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW., First Avenue, P.O. Box 3623, Portland, OR 97208 (telephone: 503-808-2165).

Dated: January 27, 2004.
Anne Badgley,
Designated Federal Official.

[FR Doc. 04-2404 Filed 2-4-04; 8:45 am]

BILLING CODE 3410-11-P